ENVIRONMENTAL PROTECTION AGENCY

40 CFR Part 79

Registration of Fuels and Fuel Additives

CFR Correction

In title 40 of the Code of Federal Regulations, parts 72 to 80, revised as of July 1, 2007, on page 604, in § 79.68, paragraph (f)(5)(vii) is reinstated to read as follows:

§ 79.68 Salmonella typhimurium reverse mutation assay.

* * * * *

(f) * * *

(5) * * *

(vii) Dose-response relationship, if applicable.

* * * * *

[FR Doc. E8-13913 Filed 6-18-08; 8:45 am]

BILLING CODE 1505-01-D